DEPARTMENT OF ENERGY

Federal Energy Regulatory Commission

[Docket No. CP22-44-000]

Equitrans, L.P.; Notice of Availability of the Final Environmental Impact Statement for the Proposed Ohio Valley Connector Expansion Project

The staff of the Federal Energy Regulatory Commission (FERC or Commission) has prepared a final environmental impact statement (EIS) for the Ohio Valley Expansion Project (Project), proposed by Equitrans, LP (Equitrans) in the above-referenced docket. Equitrans requests authorization to construct and operate approximately 5.5 miles of new pipeline and pipeline loop; ¹ acquire and add compression to one non-jurisdictional compressor station; and add compression at two existing compression facilities in Pennsylvania, West Virginia, and Ohio. The Project would provide approximately 350,000 dekatherms per day of natural gas to mid-continent and Gulf Coast markets, create new transportation paths, and provide long-term reliability.

¹ A pipeline loop is a segment of pipe constructed next to an existing pipeline to increase capacity.

The final EIS assesses the potential environmental effects of the construction and operation of the Project in accordance with the requirements of the National Environmental Policy Act (NEPA). FERC staff concludes that approval of the proposed Project, with the mitigation measures recommended in the EIS, would not result in significant adverse impacts. Regarding climate change impacts, this EIS is not characterizing the Project's greenhouse gas emissions as significant or insignificant because the Commission is conducting a generic proceeding to determine whether and how the Commission will conclude significance going forward.² The EIS also concludes that no system, route, or other alternative would meet the Project objective while providing a significant environmental advantage over the Project as proposed.

² Consideration of Greenhouse Gas Emissions in Natural Gas Infrastructure Project Reviews, 178 FERC ¶ 61,108 (2022); 178 FERC ¶ 61,197 (2022).

The U.S. Army Corps of Engineers Huntington District (COE) participated as a cooperating agency in the preparation of the EIS. A cooperating agency has jurisdiction by law or special expertise with respect to resources potentially affected by the proposal and participate in the NEPA analysis. Although a cooperating agency provides input to the conclusions and recommendations presented in an EIS, the agency may present its own conclusions and recommendations in any applicable Record of Decision for a project. Accordingly, the final EIS for this Project is intended to fulfill the COE's NEPA obligations, as applicable, and to support the COE's subsequent conclusions and decisions.

The final EIS addresses the potential environmental effects of the construction and operation of the following Project facilities:

Greene County, Pennsylvania

• Acquisition of the existing non-jurisdictional Cygrymus Compressor Station and addition of two Solar Taurus 70 turbines;

• approximately 0.5 mile of new 16-inch-diameter natural gas pipeline (H-327);

• approximately 0.5 mile of new 12-inch-diameter natural gas pipeline (H-328); and

• ancillary facilities, such as a valve yard, taps, and internal inspection device (e.g., pig launchers and receivers³).

³ A “pig” is a tool that the pipeline company inserts into and pushes through the pipeline for cleaning, conducting internal inspections, or other purposes.

Wetzel County, West Virginia

• addition of one Solar Mars 100 compressor at the existing Corona Compressor Station;

• approximately 3.7 miles of new 24-inch-diameter natural gas pipeline (H-326);

• approximately 129 feet of new 8-inch-diameter natural gas pipeline (H-329);

• approximately 0.7 mile of new 16-inch-diameter natural gas pipeline (H-330);

• approximately 0.09 mile of new 16-inch-diameter natural gas pipeline (H-330 Spur);

• approximately 160 feet of new 12-inch-diameter natural gas pipeline; and

• ancillary facilities, such as mainline valves, valve yards, measuring equipment, and pigging facilities.

Monroe County, Ohio

• addition of one Solar Titan 130 compressor at the existing Plasma Compressor Station.

The Commission mailed a copy of the Notice of Availability of the final EIS to federal, state, and local government representatives and agencies; elected officials; environmental and public interest groups; Native American tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field, excluding the last three digits (i.e., CP22-44). Be sure you have selected an appropriate date range. For assistance, please contact FERC Online Support at FercOnlineSupport@ferc.gov or toll free at (866) 208-3676, or for TTY, contact (202) 502-8659.

In accordance with the Council on Environmental Quality's (CEQ) regulations implementing NEPA, no agency decision on a proposed action may be made until 30 days after the U.S. Environmental Protection Agency publishes a notice of availability of the final EIS in the Federal Register. However, the CEQ regulations provide an exception to this rule when an agency decision is subject to a formal internal appeal process that allows other agencies or the public to make their views known. In such cases, the agency decision may be made at the same time the notice of the final EIS is published, allowing both periods to run concurrently. The Commission decision for this proposed action is subject to a 30-day rehearing period.

The final EIS is not a decision document. It presents Commission staff's independent analysis of the environmental issues for the Commission to consider when addressing the merits of all issues in this proceeding.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: January 20, 2023.
Kimberly D. Bose,
Secretary.

[FR Doc. 2023-01931 Filed 1-30-23; 8:45 am]

BILLING CODE 6717-01-P